DEPARTMENT OF AGRICULTURE

Forest Service

Information Collection: Youth Conservation Corps Application and Medical History

AGENCY: Forest Service, USDA.

ACTION: Notice; request for comment.

SUMMARY: In accordance with the Paperwork Reduction Act of 1995, the USDA Forest Service and certain Department of Interior agencies are seeking comments from all interested individuals and organizations on the revision of a currently approved information collection, OMB 0596-0084, Youth Conservation Corps Application and Medical History. The collected information will help agencies evaluate the employment eligibility of youth 15 to 18 years old through the Youth Conservation Corps Program. Under the Program, Federal agencies provide seasonal employment for youth.

DATES: Comments must be received in writing on or before February 11, 2013 to be assured of consideration. Comments received after that date will be considered to the extent practicable.

ADDRESSES: Comments concerning this notice should be addressed to Volunteers & Service Program Manager, USDA Forest Service, Recreation, Heritage, and Volunteer Resources (RHVR), 201 14th Street NW., Mailstop 1125, Washington, DC 20024.

Comments also may be submitted via facsimile to 202-205-1145 or by email to: ncoyote@fs.fed.us.

The public may inspect comments received at USDA Forest Service, Rosslyn Plaza Building, RHVR, 1601 North Kent St., 4th Floor, Arlington, VA 22209 during normal business hours. Visitors are encouraged to call ahead to 202-205-1706 to facilitate entry to the building.

FOR FURTHER INFORMATION CONTACT: Nancy Coyote, Recreation, Heritage, and Volunteer Resources staff, 503-347-9991.

Individuals who use telecommunication devices for the deaf (TDD) may call the Federal Relay Service (FRS) at 1-800-877-8339, 24 hours a day, every day of the year, including holidays.

SUPPLEMENTARY INFORMATION:

Title: Youth Conservation Corps Application and Medical History.

OMB Number: 0596-0084.

Expiration Date of Approval: 05/31/2013.

Type of Request: Revision of a currently approved collection.

Abstract: Under the Youth Conservation Corps Act of August 13, 1970, as amended (16 U.S.C. 1701-1706), the Forest Service, U.S. Department of Agriculture; the Fish and Wildlife Service, and National Park Service, U.S. Department of Interior, cooperate to provide seasonal employment for eligible youth 15 through 18 years old. The Youth Conservation Corps stresses three important objectives:

1. Accomplish needed conservation work on public lands;

2. Provide gainful employment for 15 to 18 year old male and females from all social, economic, ethic, and racial backgrounds; and

3. Foster, on the part of the 15 through 18 year old youth, an understanding and appreciation of the Nation's natural resources and heritage.

Youths seeking training and employment with the Youth Conservation Corps must complete the following forms: FS-1800-18, Youth Conservation Corps Application and FS-1800-3, Youth Conservation Corps Medical History. The applicant's parent or guardian must sign both forms. The application and medical history form are evaluated by participating agencies to determine the eligibility of each youth for employment with the Youth Conservation Corps.

FS-1800-18, Youth Conservation Corps (YCC) Application: Applicants are asked to answer questions that includes their name, social security number, date of birth, age, mailing address, telephone numbers, email address, gender, educational background, desired work location, where they learned about the program, history of criminal conviction, work or volunteer history including working with a team or group, recreational activities that would help prepare them for outdoor work, why they want to enroll in a YCC program, and what they think is the biggest challenge facing the world today.

FS-1800-3, Youth Conservation Corps Medical History: Accepted applicants are asked to provide contact information, age and date of birth, gender, emergency contact information, parent or guardian's contact information and signature, medical insurance information, medical history including vaccination history, previous and current illnesses or conditions that may affect ability to perform certain tasks, primary language, ethnic background (optional), exercise currently undertaken, and swimming ability. The purpose of this form is to certify the youth's physical fitness to work in the seasonal employment program.

Estimate of Annual Burden: 14 minutes per form per respondent.

Type of Respondents: Youth 15 through 18 years old seeking seasonal employment with the above-named agencies, through the YCC program.

Estimated Annual Number of Respondents: 15,400.

Estimated Annual Number of Responses per Respondent: 2.

Estimated Total Annual Burden on Respondents: 4,795 hours.

Comment is invited on: (1) Whether this collection of information is necessary for the stated purposes and the proper performance of the functions of the agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the request for Office of Management and Budget approval.

Dated: December 3, 2012.
James M. Pẽna,
Associate Deputy Chief, National Forest System.

[FR Doc. 2012-29926 Filed 12-12-12; 8:45 am]

BILLING CODE 3410-11-P